DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on May 1, 2020, through May 31, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three copies of the information with the Clerk of the United States Court of Federal Claims at the address listed above (under the heading FOR FURTHER INFORMATION CONTACT), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Cynthia Shaw, Greensboro, North Carolina, Court of Federal Claims No: 20-0542V

2. Andrea Coli, Oakland, California, Court of Federal Claims No: 20-0543V

3. Robert Pelham on behalf of L.L.P., Aurora, Colorado, Court of Federal Claims No: 20-0544V

4. Eddie Dean Benenhaley, Sumter, South Carolina, Court of Federal Claims No: 20-0545V

5. Moses Ball and Brenda Ball on behalf of M.B., Los Angeles, California, Court of Federal Claims No: 20-0547V

6. Gina M. Tyler, Hartford, Connecticut, Court of Federal Claims No: 20-0548V

7. Alfred Sandoval, San Antonio, California, Court of Federal Claims No: 20-0549V

8. Dustin Harlow, Scott Air Force Base, Illinois, Court of Federal Claims No: 20-0550V

9. Daisy Rodriguez on behalf of L.R., Lubbock, Texas, Court of Federal Claims No: 20-0553V

10. Patti Osborn, Springfield, Missouri, Court of Federal Claims No: 20-0555V

11. Charles Buono, Philadelphia, Pennsylvania, Court of Federal Claims No: 20-0556V

12. Joshua Lige Kelly, Richmond, Kentucky, Court of Federal Claims No: 20-0557V

13. Robert Einweck, Tucson, Arizona, Court of Federal Claims No: 20-0559V

14. Diane Jebran, Atlantic City, New Jersey, Court of Federal Claims No: 20-0560V

15. Carol Cracraft, Florence, Indiana, Court of Federal Claims No: 20-0562V

16. Tim A. Zikeli, Delafield, Wisconsin, Court of Federal Claims No: 20-0564V

17. Tracy Kilmartin, Danbury, Connecticut, Court of Federal Claims No: 20-0567V

18. Nancy O'Leary, Crestwood, Kentucky, Court of Federal Claims No: 20-0568V

19. Rene Villa, Boston, Massachusetts, Court of Federal Claims No: 20-0569V

20. Kenneth Bryson, Spartanburg, South Carolina, Court of Federal Claims No: 20-0571V

21. Cari R. Calohan, Rockford, Illinois, Court of Federal Claims No: 20-0572V

22. Laura Hauer, Minneapolis, Minnesota, Court of Federal Claims No: 20-0573V

23. Amber Ann Garren, St. Lucie, Florida, Court of Federal Claims No: 20-0574V

24. John McFarland, Buffalo, New York, Court of Federal Claims No: 20-0576V

25. Danielle Cooley, Washington, District of Columbia, Court of Federal Claims No: 20-0580V

26. Nicol Messuri, Washington, District of Columbia, Court of Federal Claims No: 20-0581V

27. Terry Lee Colver, Battle Creek, Michigan, Court of Federal Claims No: 20-0582V

28. Roderick Ramos and Kelly Ramos on behalf of T. R., San Mateo, California, Court of Federal Claims No: 20-0583V

29. Karen Green, Alameda, California, Court of Federal Claims No: 20-0584V

30. Katherine Belka, Washington, District of Columbia, Court of Federal Claims No: 20-0585V

31. David Bunch, Great Falls, Virginia, Court of Federal Claims No: 20-0586V

32. Helen Morton, Brunswick, Georgia, Court of Federal Claims No: 20-0587V

33. Byron Wilson, Perryville, Missouri, Court of Federal Claims No: 20-0588V

34. David Vaughn, El Paso, Texas, Court of Federal Claims No: 20-0590V

35. Jeremy Lee Pavey, Escondido, California, Court of Federal Claims No: 20-0592V

36. Angela Kalail, Uniontown, Ohio, Court of Federal Claims No: 20-0593V

37. Jennifer Aylor, Covington, Virginia, Court of Federal Claims No: 20-0595V

38. James Harvey, MD, Wilmington, Delaware, Court of Federal Claims No: 20-0596V

39. Alva Owensby, Horse Shoe, North Carolina, Court of Federal Claims No: 20-0597V

40. William Lee, Sunset, Utah, Court of Federal Claims No: 20-0599V

41. Guinevere Paviglianiti, Avondale, Pennsylvania, Court of Federal Claims No: 20-0600V

42. Kathy Sawvell, Prairie du Chien, Wisconsin, Court of Federal Claims No: 20-0602V

43. Michael Goldencrown, Mankato, Minnesota, Court of Federal Claims No: 20-0603V

44. Traci Gould Miller, Cherry Hill, New Jersey, Court of Federal Claims No: 20-0604V

45. Marsully Gonzalez, New York, New York, Court of Federal Claims No: 20-0607V

46. Patricia Edwards, Fairfax, Virginia, Court of Federal Claims No: 20-0612V

47. Rachel Zale, Worchester, Massachusetts, Court of Federal Claims No: 20-0613V

48. Sylvia Amaral, Visalia, California, Court of Federal Claims No: 20-0614V

49. Debra Stott, Highland, Utah, Court of Federal Claims No: 20-0615V

50. Ronald Walczak, Albany, New York, Court of Federal Claims No: 20-0616V

51. Joanne Rebelo, Swansea, Massachusetts, Court of Federal Claims No: 20-0618V

52. Jacie Blenker, Sauk Centre, Minnesota, Court of Federal Claims No: 20-0619V

53. Mark Trimble, Spring Branch, Texas, Court of Federal Claims No: 20-0621V

54. Jennifer Bancroft on behalf of A.B., Owings Mills, Maryland, Court of Federal Claims No: 20-0622V

55. Wilson Ramos, Winter Park, Florida, Court of Federal Claims No: 20-0623V

56. Emilee Pletcher, Columbia City, Indiana, Court of Federal Claims No: 20-0624V

57. Katherine Shoemaker, Marysville, Ohio, Court of Federal Claims No: 20-0625V

58. Melissa R. Wagner, Gastonia, North Carolina, Court of Federal Claims No: 20-0626V

59. Jeff Burton, St. George, Utah, Court of Federal Claims No: 20-0627V

60. Michele Wenclawiak, Bristol, Pennsylvania, Court of Federal Claims No: 20-0629V

61. Jennifer Estep, Michigan City, Indiana, Court of Federal Claims No: 20-0630V

62. Elizabeth Marie Mertens, Othello, Washington, Court of Federal Claims No: 20-0632V

63. Briana Jenay Gabel, North Bend, Washington, Court of Federal Claims No: 20-0633V

64. Deborah Peeples, Columbia, South Carolina, Court of Federal Claims No: 20-0634V

65. Erin Carey, Wilmington, North Carolina, Court of Federal Claims No: 20-0637V

66. Richard Iaconelli, Philadelphia, Pennsylvania, Court of Federal Claims No: 20-0642V

67. Pamela Garstkiewicz on behalf of The Estate of Edward Braddock Jones, III, Deceased, Audubon, New Jersey, Court of Federal Claims No: 20-0644V

68. Shannon Alfaro, Eagle Pass, Texas, Court of Federal Claims No: 20-0646V

69. Jayson Clickner, Avon, New York, Court of Federal Claims No: 20-0647V

70. Kimberly Scott, Portland, Oregon, Court of Federal Claims No: 20-0648V

71. Lacey Cupp, St. Louis, Missouri, Court of Federal Claims No: 20-0649V

72. Patty Aalbers, Bloomfield, Iowa, Court of Federal Claims No: 20-0650V

73. Laura Reyor, Boston, Massachusetts, Court of Federal Claims No: 20-0652V

74. Peter Tinucci, Tucson, Arizona, Court of Federal Claims No: 20-0654V

75. Mariya Melnik, Salt Lake City, Utah, Court of Federal Claims No: 20-0655V

76. Jeffry Shipley, Amarillo, Texas, Court of Federal Claims No: 20-0657V

77. Anita Valentine, Glendale, California, Court of Federal Claims No: 20-0658V

78. Cheryl Fabian, Boston, Massachusetts, Court of Federal Claims No: 20-0659V

79. Patricia Koapke on behalf of W.K., Bismarck, North Dakota, Court of Federal Claims No: 20-0660V

[FR Doc. 2020-13496 Filed 6-22-20; 8:45 am]

BILLING CODE 4165-15-P